DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Protection Against Vertical Transmission of Pathogenic Infections

Drs. Gene Shearer and Maria T. Rugeles (NCI).

DHHS Reference No. E-225-2003/0-US-01 filed 22 May 2003.

Licensing Contact: Sally Hu; 301/435-5606; hus@mail.nih.gov.

This invention describes the treatment of pregnant women who are infected with HIV-1 (or other infectious agents that would be harmful to their fetuses and/or newborns) to reduce the risk of vertical transmission of the infectious agents. The treatment could potentially be accomplished by treating the pregnant women with recombinant ribonucleases (RNases), or by immunizing the women with allogeneic leukocytes that could stimulate the production of endogenous RNases. Since alloantigen stimulation of blood leukocytes from healthy individuals results in production of ribonucleases (RNases) that inhibit HIV-1 and HTLV-1 replication, alloimmunization of at risk or infected pregnant females would be protective for their newborns from infection of different pathogens, including HIV-1 and HTLV-1. Thus, this invention may provide a cost effective and a therapeutically effective means of preventing vertical transmission of pathogens, including HIV-1 and HTLV-1.

Inhibition of HIV-1 Replication by the Ribonuclease, Recombinant Angiogenin

Drs. Gene Shearer, Joost J. Oppenheim, Maria T. Rugeles, and Susanna M. Rybak (NCI).

DHHS Reference No. E-327-2002/0-US-01 filed 22 May 2003.

Licensing Contact: Sally Hu; 301/435-5606; hus@mail.nih.gov.

This invention describes the inhibition of human immunodeficiency virus-1 (HIV-1) replication by recombinant angiogenin, a ribonuclease (RNase). Ribonucleases have been shown to inhibit HIV-1 replication in chronically-infected cell lines. This invention has demonstrated that angiogenin is a potent inhibitor of HIV-1 replication. For example, angiogenin inhibits HIV-1 replication in primary activated T lymphocyte cultures as well as chronically infected cell lines. Since inhibition of HIV-1 replication in primary activated T lymphocytes would decrease the risk of HIV spreading to other T cells, angiogenin has several advantages over other known ribonucleases that are used to inhibit HIV replication. Furthermore, this invention raised the possibility that angiogenin could be used in lower doses for inhibiting HIV replication and would be less toxic as compared to other ribonucleases. Thus, angiogenin may be an RNase of choice for treating patients with AIDS and this invention would overcome some of the problems involved in current ribonucleolytic HIV treatments.

Dated: August 18, 2003.
Steven M. Ferguson,
Director, Division of Technology Development and Transfer, Office of Technology Transfer, National Institutes of Health.

[FR Doc. 03-21694 Filed 8-25-03; 8:45 am]

BILLING CODE 4140-01-P